DEPARTMENT OF TRANSPORTATION

Pipeline and Hazardous Materials Safety Administration

[Docket No. PHMSA-98-4470]

Pipeline Safety: Meeting of the Technical Pipeline Safety Standards Advisory Committee

AGENCY: Pipeline and Hazardous Materials Safety Administration (PHMSA), Department of Transportation (DOT).

ACTION: Notice of meeting.

SUMMARY: This notice announces a public meeting of PHMSA's Technical Pipeline Safety Standards Committee (TPSSC) to vote on a proposed rule requiring pipeline operators to consider internal corrosion when designing and constructing new and replaced gas transmission pipelines.

DATES: The TPSSC will meet on Thursday, August 24, 2006, from 1 p.m. to 3 p.m., EST.

ADDRESSES: The Committee members will participate via telephone conference call. Members of the public may attend the meeting at the U.S. Department of Transportation, 400 Seventh Street, SW., Washington, DC, in room 3246 A.

FOR FURTHER INFORMATION CONTACT: For additional information regarding this meeting contact Cheryl Whetsel at (202) 366-4431, or by e-mail at cheryl.whetsel@dot.gov.

SUPPLEMENTARY INFORMATION:

1. Meeting Details

Members of the public may attend the meeting. PHMSA will post any additional information or changes on its Web page (http://phmsa.dot.gov).

Members of the public may make short statements on the topics under discussion. Anyone wishing to make an oral statement should notify Cheryl Whetsel no later than August 21 of the topic and the length of the presentation. The presiding officer at the meeting may deny any request to present an oral statement and may limit the time of any presentation.

You may submit written comments by mail or deliver them to the Dockets Facility by August 24, 2006, at the U.S. Department of Transportation, Room PL-401, 400 Seventh Street, SW., Washington, DC 20590-0001. The Dockets Facility is open from 9 a.m. to 5 p.m., Monday through Friday, except Federal holidays. You also may submit written comments to the docket electronically by logging onto the Web page http://dms.dot.gov. Click on “Help & Information” for instructions on how to file a document electronically. All written comments should reference docket number PHMSA-98-4470. Anyone who would like confirmation of mailed comments must include a self-addressed stamped postcard.

Privacy Act Statement: Anyone may search the electronic form of all comments received for any of our dockets. You may review DOT's complete Privacy Act Statement in the Federal Register published on April 11, 2000 (65 FR 19477) or you may visit http://dms.dot.gov.

Information on Services for Individuals with Disabilities: For information on facilities or services for individuals with disabilities, or to request special assistance at the meeting, please contact Cheryl Whetsel at (202) 366-4431 by August 21, 2006.

2. TPSSC Background

The TPSSC is a statutorily mandated advisory committee that advises PHMSA on proposed safety standards for gas pipelines. The TPSSC was established under section 10(a)(2) of the Federal Advisory Committee Act (Pub. L. 92-463, 5 U.S.C. App. 1). The committee consists of 15 members—five each representing government, industry, and the public. The TPSSC is tasked with determining reasonableness, cost-effectiveness, and practicability of regulatory initiatives.

Federal law requires PHMSA to submit cost-benefit analyses and risk assessment information on each proposed safety standard to the advisory committees. The TPSSC evaluates the merits of the data and, when appropriate, provides recommendations on the adequacy of the cost-benefit analyses.

3. Background on the Proposed Rule

On December 15, 2005, PHMSA published a notice of proposed rulemaking (NPRM) in the Federal Register (70 FR 74262) on the control of internal corrosion when designing and constructing new and replaced gas transmission pipelines. PHMSA's pipeline safety regulations now require operators to have operation and maintenance practices to control internal corrosion. The NPRM proposed to require operators to address the risk of internal corrosion at a much earlier stage; namely when designing and constructing new and replaced gas transmission pipelines.

PHMSA presented the NPRM to the TPSSC at a meeting on June 28, 2006. Members expressed concern about the enforceability of the NPRM and the extent of its recordkeeping requirements. The TPSSC requested postponement of consideration of the NPRM and additional information before a vote on it. The TPSSC will be voting on the reasonableness, cost-effectiveness, and practicability of the NPRM at the meeting scheduled in this notice. PHMSA will provide additional information to the members prior to the meeting.

PHMSA will issue a final rule based on the proposed rule, the comments received from the public, and the vote and comments of the advisory committee.

Authority: 49 U.S.C. 60102, 60115.

Issued in Washington, DC on July 21, 2006.
Stacey L. Gerard,
Associate Administrator for Pipeline Safety.

[FR Doc. E6-12034 Filed 7-26-06; 8:45 am]

BILLING CODE 4910-60-P